DEPARTMENT OF THE INTERIOR

Fish and Wildlife Service

[FWS-R8-ES-2015-N043; FXES11130000-156-FF08E00000]

Endangered and Threatened Wildlife and Plants; Draft Recovery Plan for the Santa Barbara County Distinct Population Segment of the California Tiger Salamander

AGENCY: Fish and Wildlife Service, Interior.

ACTION: Notice of document availability; request for comments.

SUMMARY: We, the U.S. Fish and Wildlife Service, announce the availability of the draft recovery plan for the Santa Barbara County Distinct Population Segment of the California tiger salamander (Ambystoma californiense). The recovery plan includes recovery objectives and criteria, and specific actions necessary to achieve downlisting and delisting from the Federal Lists of Endangered and Threatened Wildlife and Plants. We request review and comment on this plan from local, State, and Federal agencies; Tribes; and the public. We will also accept any new information on the status of the Santa Barbara County Distinct Population Segment of the California tiger salamander throughout its range to assist in finalizing the recovery plan.

DATES: To ensure consideration, we must receive written comments on or before June 23, 2015. However, we will accept information about any species at any time.

ADDRESSES: You may obtain a copy of the draft recovery plan from our Web site at http://www.fws.gov/endangered/species/recovery-plans.html. Alternatively, you may contact the Ventura Fish and Wildlife Office, U.S. Fish and Wildlife Service, 2493 Portola Road, Suite B, Ventura, California 93003 (telephone 805-644-1766). If you wish to comment on the draft recovery plan, you may submit your comments in writing by any one of the following methods:

• U.S. mail: Field Supervisor, at the above address;

• Hand-delivery: Ventura Fish and Wildlife Office, at the above address;

• Fax: (805) 644-3958; or

• Email: sbcts_rp@fws.gov.

For additional information about submitting comments, see the “Request for Public Comments” section below.

FOR FURTHER INFORMATION CONTACT: Stephen P. Henry, Field Supervisor, at the above street address or telephone number (see ADDRESSES).

SUPPLEMENTARY INFORMATION:

Background

Recovery of endangered or threatened animals and plants to the point where they are again secure, self-sustaining members of their ecosystems is a primary goal of our endangered species program and the Endangered Species Act of 1973, as amended (Act; 16 U.S.C. 1531 et seq.). Recovery means improvement of the status of listed species to the point at which listing is no longer appropriate under the criteria specified in section 4(a)(1) of the Act. The Act requires the development of recovery plans for listed species, unless such a plan would not promote the conservation of a particular species.

On January 19, 2000, the Santa Barbara County Distinct Population Segment (DPS) of the California tiger salamander was emergency listed as endangered (65 FR 3096). The final listing rule for the species was subsequently published on September 21, 2000 (65 FR 57242). Critical habitat for the DPS was designated in 2004 (69 FR 68568).

The Santa Barbara County DPS of the California tiger salamander is endemic to the northern portion of Santa Barbara County, California, and currently consists of six distinct metapopulations, defined as a set of local populations or breeding sites within an area, where typically dispersal from one local population or breeding site to other areas containing suitable habitat is possible, but not routine. The primary threat that resulted in the listing of the Santa Barbara DPS of the California tiger salamander as federally endangered was the loss, degradation, and fragmentation of habitat from human activities. The California tiger salamander requires a combination of pond habitat for breeding, and upland (underground) habitat for the rest of its life cycle. The species depends on a series of interconnected breeding and upland habitats, making it particularly sensitive to changes in the amount, configuration, and quality of these habitats. The loss and destruction of habitat continues to represent the primary threat to the species. Within the range of the Santa Barbara County DPS of the California tiger salamander, significant portions of its habitat have been altered or destroyed. Additional threats to the species include hybridization with nonnative tiger salamanders, predation and competition by nonnative species, vehicle-strike mortality, and lack of compliance with existing regulatory mechanisms. A majority of the known California tiger salamander occurrences in Santa Barbara County currently occur on private lands, requiring continual coordination with multiple private and local government entities for management.

Recovery Plan

The purpose of a recovery plan is to provide a framework for the recovery of species so that protection under the Act is no longer necessary. A recovery plan includes scientific information about the species and provides criteria that help us to gauge whether downlisting or delisting the species is warranted. Furthermore, recovery plans help guide our recovery efforts by describing actions we consider necessary for each species' conservation and by estimating time and costs for implementing needed recovery measures.

The goal of this draft recovery plan is to reduce the threats to the Santa Barbara County DPS of the California tiger salamander to ensure its long-term viability in the wild, and allow for its removal from the list of threatened and endangered species. The interim goal is to recover the DPS to the point that it can be downlisted from endangered to threatened status. The recovery objectives of the plan are:

1. Protect and manage sufficient habitat within the metapopulation areas to support long-term viability of the Santa Barbara County DPS of the California tiger salamander.

2. Reduce or remove other threats to the Santa Barbara County DPS of the California tiger salamander.

The draft recovery plan contains recovery criteria based on maintaining and increasing population numbers and habitat quality and quantity, and mitigating significant threats to the species. As the Santa Barbara County DPS of the California tiger salamander meets these criteria, we will review the species' status and consider the species for downlisting or removal from the Federal List of Endangered and Threatened Wildlife and Plants.

Request for Public Comments

Section 4(f) of the Act requires us to provide public notice and an opportunity for public review and comment during recovery plan development. It is also our policy to request peer review of recovery plans (July 1, 1994; 59 FR 34270). In an appendix to the approved recovery plan, we will summarize and respond to the issues raised by the public and peer reviewers. Substantive comments may or may not result in changes to the recovery plan; comments regarding recovery plan implementation will be forwarded as appropriate to Federal or other entities so that they can be taken into account during the course of implementing recovery actions. Responses to individual commenters will not be provided, but we will provide a summary of how we addressed substantive comments in an appendix to the approved recovery plan.

We invite written comments on the draft recovery plan. In particular, we are interested in additional information regarding the current threats to the species, and our proposed approach to recovering the species.

Before we approve our final recovery plan, we will consider all comments we receive by the date specified in DATES above. Methods of submitting comments are in the ADDRESSES section above.

Public Availability of Comments

Before including your address, phone number, email address, or other personal identifying information in your comment, you should be aware that your entire comment—including your personal identifying information—may be made publicly available at any time. While you can ask us in your comment to withhold your personal identifying information from public review, we cannot guarantee that we will be able to do so.

Comments and materials we receive will be available, by appointment, for public inspection during normal business hours at our office (see ADDRESSES).

Authority

We developed our draft recovery plan under the authority of section 4(f) of the Act, 16 U.S.C. 1533(f). We publish this notice under section 4(f) Endangered Species Act of 1973, as amended (16 U.S.C. 1531 et seq.).

Alexandra Pitts,
Acting Regional Director, Pacific Southwest Region.

[FR Doc. 2015-09547 Filed 4-23-15; 8:45 am]

BILLING CODE 4310-55-P